DEPARTMENT OF AGRICULTURE

Agricultural Marketing Service

[TM-01-01]

Notice of Meeting of the National Organic Standards Board

AGENCY: Agricultural Marketing Service, USDA.

ACTION: Notice.

SUMMARY: In accordance with the Federal Advisory Committee Act, as amended, the Agricultural Marketing Service (AMS) announces a forthcoming meeting of the National Organic Standards Board (NOSB).

DATES: March 6, 2001, from 8 a.m. to 5:30 p.m. and March 7, 2001, from 8:30 a.m. to 5:30 p.m. (Pacific Time each day).

PLACE: Embassy Suites Hotel, Buena Park, 7762 Beach Boulevard, Buena Park, CA 90620. Telephone: (714) 739-5600.

FOR FURTHER INFORMATION CONTACT: Keith Jones, Program Manager, National Organic Program, USDA-AMS-TMP-NOP, Room 2945-So., Ag Stop 0268, P.O. Box 96456, Washington, DC 20090-6456, Telephone: (202) 720-3252.

SUPPLEMENTARY INFORMATION: Section 2119 (7 U.S.C. 6518) of the Organic Foods Production Act of 1990 (OFPA), as amended (7 U.S.C. Section 6501 et seq.) requires the establishment of the NOSB. The purpose of the NOSB is to make recommendations about whether a substance should be allowed or prohibited in organic production or handling, to assist in the development of standards for substances to be used in organic production and to advise the Secretary on any other aspects of the implementation of OFPA. The NOSB met for the first time in Washington, DC, in March 1992 and currently has five committees working on various aspects of the program. The committees are: Accreditation, Crops, Livestock, Materials, and Processing.

In August of 1994, the NOSB provided its initial recommendations for the National Organic Program (NOP) to the Secretary of Agriculture. Since that time the NOSB has submitted 30 addenda to its recommendations and reviewed more than 185 substances for inclusion on the National List of Allowed and Prohibited Substances. The last meeting of the NOSB was held on November 15-17, 2000, in Washington, DC.

The Department of Agriculture (USDA) published its final National Organic Program regulation in the Federal Register on December 21, 2000 (65 FR 80548). The rule becomes effective February 20, 2001.

Purpose and Agenda

The principal purposes of this meeting are to provide an opportunity for the NOSB to: receive committee reports, receive an update from the Aquatic Task Force Working Group; receive an update from the USDA/NOP; review materials for possible inclusion on the National List of Approved and Prohibited Substances; and receive a presentation from the EPA on organic product labeling List 3 inerts. The Livestock Committee will report on the development of guidelines for “access to pasture.” The Processing Committee will present a proposal on “commercial availability” (with Crops Committee input). As noted in the final National Organic Program regulation, AMS is soliciting additional comment concerning the development of criteria for determining the commercial availability of organically produced agricultural commodities used in processed products labeled as organic. The specific issues on which AMS is soliciting comment are presented in the final regulation (65 FR 80562-80563). The Processing Committee will also present a proposal for restructuring the National List. The Materials Committee will review the materials decision matrix, review materials, and develop a policy for updating the National List. Materials to be reviewed at the meeting are for Livestock production: Hydroxyquinoline Sulfate, and Poloxalene; and for Processing: L-cysteine, Calcium Sulfate, Ammonium Hydroxide, Cyclohexlamine, Diethylaminoethanol, Morpholine, and Octadecylamine. For further information see http://www.ams.usda.gov/nop. Copies of the NOSB meeting agenda can be requested from Mrs. Toni Strother, USDA-AMS-TMP-NOP, Room 2510-So., Ag Stop 0268, P.O. Box 96456, Washington, DC 20090-6456; by telephone at (202) 720-3252; or by accessing the NOP website at http://www.ams.usda.gov/nop on or after February 16, 2001.

Type of Meeting

This meeting is open to the public. The NOSB has scheduled time for public input on Tuesday, March 6, 2001, from 8 a.m. until 9:30 a.m., and on Wednesday, March 7, 2001, from 4 p.m. until 5:30 p.m. at the Embassy Suites Hotel, Buena Park, 7762 Beach Boulevard, Buena Park, CA 90620. Telephone: (714) 739-5600. Individuals and organizations wishing to make an oral presentation at the meeting should forward their request to Mrs. Toni Strother at USDA-AMS-TMP-NOP, Room 2510-So., Ag Stop 0268, P.O. Box 96456, Washington, DC 20090-6456, or by FAX to (202) 205-7808, or by e-mail at toni.strother2@usda.gov, by close of business March 1, 2001. While persons wishing to make a presentation may sign up at the door, advance registration will ensure a person has the opportunity to speak during the allotted time period and will help the NOSB to better manage the meeting and to accomplish its agenda. Individuals or organizations will be given approximately 5 minutes to present their views. All persons making an oral presentation are requested to provide their comments in writing. Written submissions may contain information other than that presented at the oral presentation. Written comments may be submitted to the NOSB at the meeting or to Mrs. Strother after the meeting at the above address.

Dated: February 15, 2001.
Kenneth C. Clayton,
Acting Administrator, Agricultural Marketing Service.

[FR Doc. 01-4250 Filed 2-15-01; 1:34 pm]

BILLING CODE 3410-02-P